DEPARTMENT OF COMMERCE

International Trade Administration

[A-570-827]

Notice of Final Results of Antidumping Duty Changed Circumstances Review, and Determination to Revoke Order in Part: Certain Cased Pencils from the People's Republic of China

AGENCY: Import Administration, International Trade Administration, Department of Commerce.

ACTION: Notice of Final Results of Aantidumping Duty Changed Circumstances Review and Determination to Revoke Order in Part.

SUMMARY: On February 13, 2003, the Department of Commerce (the Department) published a notice of initiation and preliminary results of an antidumping duty changed circumstances review with the intent to revoke, in part, the antidumping duty order on certain cased pencils (pencils) from the People's Republic of China (PRC). See Notice of Initiation and Preliminary Results of Changed Circumstances Antidumping Duty Administrative Review, and Intent to Revoke Order in Part: Certain Cased Pencils from the People's Republic of China, 68 FR 7344,7345 (February 13, 2003) (Initiation and Preliminary Results). We are now revoking this order, in part, with respect to pencils meeting the specifications described below, based on the fact that domestic parties have expressed no interest in the continuation of the order with respect to these particular pencils. The Department will instruct the U.S. Customs Service (Customs) to liquidate, without regard to antidumping duties, all unliquidated entries of pencils meeting the specifications described below. Further, the Department will instruct Customs to refund with interest any estimated antidumping duties collected with respect to unliquidated entries of pencils meeting the specifications described below entered, or withdrawn from warehouse, for consumption after November 30, 2000.¹ In addition, the Department will order the suspension of liquidation ended for the merchandise covered by this partial revocation, effective on the date of publication of this notice.

¹ We inadvertently identified the date as December 1, 2001, in the Initiation and Preliminary Results.

EFFECTIVE DATE: March 27, 2003.

FOR FURTHER INFORMATION CONTACT: Michele Mire or Howard Smith, AD/CVD Enforcement, Group II, Office 4, Import Administration, International Trade Administration, U.S. Department of Commerce, 14th Street and Constitution Avenue, NW, Washington, DC 20230; telephone (202) 482-4711 and 482-5193, respectively.

SUPPLEMENTARY INFORMATION:

Background

On December 23, 2002, The Smencil Company (Smencil Co.) filed a request with the Department to revoke the antidumping duty order on certain cased pencils from the PRC with respect to the patented, scent-infused pencils produced in the PRC that it imports. See Smencil Co.'s letter to the Secretary, dated December 10, 2002 (Smencil Co. Request Letter).

Specifically, Smencil Co. requested that the Department revoke the antidumping duty order with respect to imports meeting the following description: scent-infused pencils manufactured in the PRC under U.S. patent number 6,217,242,² (Patent) that are made from rolled sheets of paper, namely rolled sheets of recycled newspaper, and infused with various scents so as to create scented pencils named Smencils. See Smencil Co. Request Letter at 1-2.

² Patent number 6,217,242 (April 17, 2001) describes the invention as a “scented writing implement (comprising) . . . a fragrant pencil and a method for making same.” (See Smencil Co. Request Letter at Appendix 2.) The patent is owned by Evaco, Ltd., doing business as The Smencil Company (See Smencil Co. Request Letter at 1).

Smencil Co. attached to its request a letter dated December 10, 2002, from the petitioners in the pencils antidumping duty proceeding³ stating that they are not interested in having the order on pencils from PRC apply to pencils manufactured in the PRC under U.S. patent number 6,217,242 that are made from rolled sheets of recycled newspaper that are infused with various scents, thereby creating products with odors distinct from those that may emanate from pencils made without the scent infusion. The petitioners indicated that the exclusion of the above-described pencils from the order should be narrowly drawn and not encompass pencils manufactured from recycled paper products without the scent infusion or with odors infused by means not covered by the Patent.

³ The petitioners are the Pencil Section of the Writing Instrument Manufacturers Association (WIMA), a trade association comprised of domestic pencil producers, and Sanford Corporation, Dixon-Ticonderoga Corporation, Tennessee Pencil Company, Musgrave Pencil Company, Moon Products, Inc., and Aakron Rule, Inc.

Subsequent to Smencil Co.'s request, the petitioners reconfirmed their position stated in their December 10, 2002, letter, as well as informed the Department that they account for more than 90 percent of the production of the domestic like product. See Memorandum to The File from Holly A. Kuga, Senior Office Director, “Telephone Discussion with Counsel for Petitioners,” dated January 31, 2003, which is on file in Import Administration's Central Records Unit, U.S. Department of Commerce, 14th Street and Constitution Avenue, NW, Room B-099, Washington, DC 20230.

As noted above, on February 13, 2003, we published the Initiation and Preliminary Results and gave interested parties an opportunity to comment. We received no comments from interested parties.

New Scope Based on this Changed Circumstances Review

The products covered by this antidumping duty order are shipments of certain cased pencils of any shape or dimension which are writing and/or drawing instruments that feature cores of graphite or other materials, encased in wood and/or man-made materials, whether or not decorated and whether or not tipped (e.g., with erasers, etc.) in any fashion, and either sharpened or unsharpened. The pencils subject to the order are classified under subheading 9609.10.00 of the Harmonized Tariff Schedule of the United States (HTSUS). Specifically excluded from the scope of the order are mechanical pencils, cosmetic pencils, pens, non-cased crayons (wax), pastels, charcoals, chalks, and pencils produced under U.S. patent number 6,217,242, from paper infused with scents by the means covered in the above-referenced patent, thereby having odors distinct from those that may emanate from pencils lacking the scent infusion.

Although the HTSUS subheading is provided for convenience and customs purposes, our written description of the scope of the order is dispositive.

Final Results of Review; Partial Revocation of Antidumping Duty Order

The affirmative statement of no interest by petitioners concerning pencils meeting the specifications described above constitutes changed circumstances sufficient to warrant partial revocation of this order. Also, no party commented on the Initiation and Preliminary Results. Therefore, the Department is partially revoking the order on pencils from the PRC with regard to the pencils meeting the specifications described above, in accordance with sections 751(b), 751(d)(1), and 782(h)(2) of the Tariff Act of 1930, as amended (the Act), and 19 CFR 351.222(g)(1)(2002).

In accordance with 19 CFR 351.222(g)(4), the Department will order the suspension of liquidation ended for pencils meeting the specifications described above, effective on the date of publication of this notice. The Department will further instruct Customs to refund with interest any estimated antidumping duties collected with respect to unliquidated entries of pencils meeting the specifications described above entered, or withdrawn from warehouse, for consumption after November 30, 2000, (i.e., any entries after the last day of the period covering the last completed administrative review), in accordance with section 778 of the Act. In addition, the Department will instruct Customs to liquidate, without regard to antidumping duties, all unliquidated entries of pencils meeting the specifications described above.

This notice serves as a reminder to parties subject to administrative protective order (APO) of their responsibility concerning the disposition of proprietary information disclosed under APO in accordance with 19 CFR 351.306. Timely written notification of the return/destruction of APO materials or conversion to judicial protective order is hereby requested. Failure to comply with the regulations and terms of an APO is a sanctionable violation.

This changed circumstances administrative review, partial revocation of the antidumping duty order and notice are in accordance with sections 751(b), 751(d)(1), and 782(h)(2) of the Act and sections 351.216(e) and 351.222(g) of the Department's regulations.

Dated: March 20, 2003.
Joseph A. Spetrini,
Acting Assistant Secretary for Import Administration.

[FR Doc. 03-7359 Filed 3-26-03; 8:45 am]

BILLING CODE 3510-DS-S